EQUAL EMPLOYMENT OPPORTUNITY COMMISSION

Agency Information Collection Activities: Renewal Without Change of Existing Collection; Comment Request

AGENCY: Equal Employment Opportunity Commission.

ACTION: Notice.

SUMMARY: In accordance with the Paperwork Reduction Act of 1995 (PRA), the Equal Employment Opportunity Commission (EEOC or Commission) announces that it intends to submit to the Office of Management and Budget (OMB) a request for a three-year extension without change of the existing information collection described below. The Commission is seeking comment on the proposed renewal.

DATES: Written comments on this notice must be submitted on or before August 11, 2023.

ADDRESSES: You may submit comments by any of the following methods—please use only one method:

Federal eRulemaking Portal: http://www.regulations.gov. Follow the instructions on the website for submitting comments.

Mail: Comments may be submitted by mail to Raymond Windmiller, Executive Officer, Executive Secretariat, Equal Employment Opportunity Commission, 131 M Street NE, Washington, DC 20507.

Fax: Comments totaling six or fewer pages can be sent by facsimile (“fax”) machine to (202) 663-4114 (this is not a toll-free number). Receipt of fax transmittals will not be acknowledged, except that the sender may request confirmation of receipt by calling the Executive Secretariat staff at (202) 921-2815 (voice) (this is not a toll-free number) or 800-669-6820 (TTY).

Instructions: All comments received must include the agency name and docket number. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

Copies of comments received are also available for review at the Commission's library. Copies of comments received in response to this notice will be made available for viewing by appointment only at 131 M Street NE, Suite 4NW08R, Washington, DC 20507. Members of the public may schedule an appointment by sending an email to the following address: OEDA@eeoc.gov.

FOR FURTHER INFORMATION CONTACT: Kathleen Oram, Assistant Legal Counsel, (202) 921-2665 and kathleen.oram@eeoc.gov, or Ashley T. Adams, General Attorney, (202) 921-2697 and ashley.adams@eeoc.gov, Office of Legal Counsel, 131 M Street NE, Washington, DC 20507. Requests for this notice in an alternative format should be made to the Office of Communications and Legislative Affairs at (202) 663-4191 (voice) or (202) 663-4494 (TTY).

SUPPLEMENTARY INFORMATION: The Age Discrimination in Employment Act (ADEA) allows for individuals to waive rights and claims protected under the Act, provided certain circumstances are met; particularly that the waiver is knowing and voluntary. In order for an individual's waiver in connection with a program to be considered knowing and voluntary, the employer must inform the individual in writing in a manner calculated to be understood by the average individual eligible to participate, as to (i) any class, unit, or group of individuals covered by such program, any eligibility factors for such program, and any time limits applicable to such program; and (ii) the job titles and ages of all individuals eligible or selected for the program, and the ages of all individuals in the same job classification or organizational unit who are not eligible or selected for the program. The EEOC's regulations clarify that the relevant section of the ADEA addresses two principal issues: to whom information must be provided, and what information must be disclosed to such individuals. The purpose of the informational requirements is to provide an employee with enough information regarding the program to allow an employee to make an informed choice whether or not to sign a waiver agreement. The employer does not provide this information to the EEOC; the ADEA and the EEOC's regulation solely require that the employer provide this information to any employee it would apply to, and not to the Federal government.

The EEOC, in accordance with the PRA and OMB regulation 5 CFR 1320.8(d)(1), provides the general public and Federal agencies with an opportunity to comment on proposed, revised, and continuing collections of information. This helps the EEOC to assess the impact of its information collection requirements and minimize the public's reporting burden. It also helps the public to understand the EEOC's information collection requirements and provide the requested data in the desired format. The EEOC is soliciting comments on the information collection that is described below. The EEOC is especially interested in public comment that will assist the EEOC in the following: (1) Evaluating whether the collection of information is necessary for the proper performance of the Commission's functions, including whether the collection has practical utility; (2) Evaluating the accuracy of the Commission's estimate of the burden of the collection of information, including the validity of the methodology and assumptions used; (3) Enhancing the quality, utility, and clarity of the information to be collected; and (4) Minimizing the burden of the collection of information on those who are to respond, including the use of appropriate automated, electronic, mechanical, or other technological collection techniques or other forms of information technology, e.g., permitting electronic submission of responses. Please note that written comments received in response to this notice will be considered public records.

Overview of This Information Collection

Collection title: Waivers of Rights and Claims Under the ADEA; Informational Requirements.

OMB number: 3046-0042.

Type of Respondent: Business, state or local governments, not for profit institutions.

Description of affected public: Any employer with 20 or more employees that seeks waiver agreements in connection with exit incentive or other employment termination program.

Number of respondents: 1,489.

Burden Hours per Respondent: 16.19.

Total Annual Burden Hours: 24,1067.

Number of forms: 0.

Abstract: The EEOC enforces the Age Discrimination in Employment Act (ADEA), which prohibits discrimination against employees and applicants for employment who are age 40 or older. The OWBPA, enacted in 1990, amended the ADEA to require employers to disclose certain information to employees (but not to EEOC) in writing when they ask employees to waive their rights under the ADEA in connection with an exit incentive program or other employment termination program. The regulation at 29 CFR 1625.22 reiterates those disclosure requirements. The EEOC seeks an extension without change for the third-party disclosure requirements contained in this regulation.

Burden statement: In 2016, the EEOC conducted a limited survey as the foundation for estimating the burden hours per Respondent. The estimated burden hours per Respondent are a combination of the estimated hours to create an ADEA waiver and the estimated hours to distribute an ADEA waiver to employees as part of an exit incentive program or other employment termination program. The goal of the 2016 survey was to identify the actual costs of creating and distributing ADEA waivers and to better understand what type of employees were involved in this process. The EEOC learned that the human resource managers (both senior and junior) and legal counsel and staff (both internal and external counsel) carry most of the paperwork and human capital burden for drafting and distributing the waivers to employees.

In sum, the burden hours for the creation of the ADEA waiver are estimated to be 8.25 per Respondent (i.e., employer), while burden hours for the distribution of the ADEA waiver are estimated to be 7.94 per Respondent (i.e., employer). Thus, the total burden hours per Respondent (i.e., employer) is 16.19.

The total annual burden hours for this information collection is calculated by multiplying the number of Respondents (i.e., employers) by the total burden hours per Respondent. Thus, the total burden hours for this information collection is 24,107 hours [1,489 Respondents × 16.19 hours per Respondent].

Per Table 1 and 2 below, EEOC found that the approximate cost of preparing the ADEA waiver notice is $384.36 per Respondent (i.e., employer), and the approximate cost of distributing the ADEA waiver notice is $390.88 per Respondent (i.e., employer). Thus, the total cost per Respondent is $775.24. For all 1,489 Respondents (i.e., employers) who are projected to have reductions in force and request waiver notices, the total preparation cost is $572,312.78, and the total distribution cost is $582,022.70. Thus, the total cost for all 1,489 Respondents (i.e., employers) is $1,154,334.70 [$572,312.78 + $582,022.70]. Table 1 reflects the calculation of the costs of creating the ADEA waiver and Table 2 reflects the calculation of the costs of distribution of the ADEA waiver.

Table 1—Computations Related to Preparing and Drafting ADEA Waiver Burden Estimate *
| Median wage rate (hour) ¹ | Projected hours per employer | Cost per firm | Total cost
Number of Respondents: 1489
CLERICAL STAFF | $19.08 | 0.11 | $2.10 | $3,125.11
SENIOR HUMAN RESOURCE MANAGERS | 60.69 | 0.26 | 15.78 | 23,495.53
INTERNALCORPORATE LEGAL COUNSEL | 61.54 | 2.23 | 137.23 | 204,341.72
EXTERNAL CORPORATE LEGAL COUNSEL | 61.54 | 2.00 | 123.08 | 183,266.12
CHIEF EXECUTIVE OFFICERS | 47.59 | 0.12 | 5.71 | 8,503.38
COMPUTER SPECIALIST (IT PROFESSIONAL) | 27.84 | 0.42 | 11.69 | 17,410.58
HUMAN RESOURCE SPECIALIST | 29.95 | 1.61 | 48.22 | 71,798.84
PARALEGAL | 27.03 | 1.50 | 40.55 | 60,371.51
SUB TOTAL | 335.26 | 8.25 | 384.36 | 572,312.78
* Totals may not sum due to rounding.
¹ Wage hour rates are based on 2021 Median Pay, the most recent year available, for the occupation indicated. They were obtained online from the U.S. Dept. of Labor, Bureau of Labor Statistics, Occupational Outlook Handbook, http://www.bls.gov/ooh/. Accessed April 4, 2023.

Table 2—Computations Related to Distributing ADEA Waiver Burden Estimate *
| Median wage rate (hour) ¹ | Projected hours per employer | Cost per firm | Total cost
Number of Respondents: 1489
HUMAN RESOURCE SPECIALIST | $29.95 | 0.27 | $8.09 | $12,040.80
CLERICAL STAFF | 19.08 | 0.50 | 9.54 | 14,205.06
SENIOR HUMAN RESOURCE MANAGERS | 60.69 | 0.85 | 51.59 | 76,812.30
INTERNALCORPORATE LEGAL COUNSEL | 61.54 | 2.08 | 128.00 | 190,596.76
EXT CORPORATE LEGAL COUNSEL | 61.54 | 2.00 | 123.08 | 183,266.12
PARALEGAL | 27.03 | 1.50 | 40.55 | 60,371.51
PAYROLL SPECIALIST | 21.52 | 0.20 | 4.30 | 6,408.66
ADMINISTRATIVE SERVICES MANAGER | 47.73 | 0.27 | 12.89 | 19,188.89
DEPARTMENT EXECUTIVE | 47.59 | 0.27 | 12.85 | 19,132.61
SUB TOTAL | 376.67 | 7.94 | 390.88 | 582,022.70
* Totals may not sum due to rounding.
¹ Wage hour rates are based on 2021 Median Pay, the most recent year available, for the occupation indicated. They were obtained online from the U.S. Dept. of Labor, Bureau of Labor Statistics, Occupational Outlook Handbook, http://www.bls.gov/ooh/. Accessed April 4, 2023.

For the Commission.
Dated: June 5, 2023.
Charlotte A. Burrows,
Chair, U.S. Equal Employment Opportunity Commission.

[FR Doc. 2023-12412 Filed 6-9-23; 8:45 am]

BILLING CODE 6570-01-P